DEPARTMENT OF TRANSPORTATION

National Highway Traffic Safety Administration

[U.S. DOT Docket Number NHTSA-98-3430]

Reports, Forms and Recordkeeping Requirements

AGENCY: National Highway Traffic Safety Administration (NHTSA), Department of Transportation.

ACTION: Request for Public Comment on a Proposed Collection of Information.

SUMMARY: Before a Federal agency can collect certain information from the public, it must receive approval from the Office of Management and Budget (OMB). Under procedures established by the Paperwork Reduction Act of 1995 (PRA), before seeking OMB approval, Federal agencies must solicit public comment on proposed collections of information, including extensions and reinstatement of previously approved collections. This document describes a proposed collection of information for which NHTSA intends to seek OMB approval.

DATES: Comments must be received on August 16, 2004.

ADDRESSES: Comments must refer to the docket notice numbers cited at the beginning of this notice and be submitted to Docket Management, Room PL-401, 400 Seventh Street, SW., Washington, DC 20590. Please identify the proposed collection of information for which a comment is provided as the “dealer notification rule.” It is requested, but not required, that one (1) original plus two (2) copies of the comment be provided. The docket section is open on weekdays from 10 a.m. to 5 p.m.

FOR FURTHER INFORMATION CONTACT: Larry Long, Office of Defects Investigation, NHTSA, 400 Seventh Street, SW., Room 5319, NVS-215, Washington, DC 20590. Telephone: (202) 366-6281.

SUPPLEMENTARY INFORMATION: Under the PRA, before an agency submits a proposed collection of information to OMB for approval, it must first publish a document in the Federal Register providing a 60-day comment period and otherwise consult with members of the public and affected agencies concerning the proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the amendments of the following described collection of information:

Title: Dealer Notification of Defects and Noncompliances.

Type of Request: Amendment to existing information collection adding new requirements.

OMB Control Number: 2127-0004.

Affected Public: This collection of information applies to manufacturers of motor vehicles and items of motor vehicle equipment that conduct safety recalls.

Abstract: On September 27, 1993, NHTSA published in the Federal Register a Notice of Proposed Rulemaking (NPRM) proposing several amendments to its regulations (49 CFR parts 573 and 577) implementing the provisions of 49 U.S.C. chapter 301 concerning manufacturers' obligations to provide notification and remedy without charge for motor vehicles and items of replacement motor vehicle equipment found to contain a defect related to motor vehicle safety or a noncompliance with a Federal motor vehicle safety standard (58 FR 50314). On April 5, 1995, we issued a final rule addressing most aspects of that NPRM (60 FR 17254), and on January 4, 1996, we amended several provisions of that final rule after receiving petitions for reconsideration (61 FR 274). However, we decided to delay issuance of the final rule on the subject of dealer notification because we had not resolved all the issues raised by the comments on that subject that were submitted in response to the NPRM. On May 19, 1999, we issued a supplemental notice of proposed rulemaking (SNPRM) in order to seek additional public comment on several significant proposed revisions to the proposal that we had originally set out in the NPRM (64 FR 27227).

We had originally proposed to require manufacturers to notify their dealers and distributors of safety defects and noncompliances that had been determined to exist in their products within 5 days after notifying the agency of the determination pursuant to 49 CFR part 573. In the SNPRM, however, rather than specify a particular time period, we proposed to require manufacturers to notify dealers in accordance with a schedule that is to be submitted to the agency with the manufacturer's defect or noncompliance information report already required by 49 CFR 573.6 (section 573.5 prior to August 9, 2002). Under the SNPRM, if the agency were to find that the public interest requires dealers to be notified at an earlier date than that proposed by the manufacturer, the manufacturer would have to notify its dealers in accordance with the agency's directive. The SNPRM also proposed to require that the dealer notification contain certain information (including language about manufacturer and dealer obligations under 49 U.S.C. 30116 and 30120(i)) and described the manner in which such notification is to be accomplished.

We fully considered the comments submitted in response to the SNPRM, and are about to issue a final rule. Consistent with the PRA, we are issuing this request for comments on the burden of complying with the dealer notification requirements. Before issuing the SNPRM in May 1999, we had published a request for such comments on a different version of the regulation. See 62 FR 63598 (December 1, 1997). Since the SNPRM made major changes to the proposal (based in part on the comments submitted in response to that request), we are issuing a new request for comments on the PRA burdens.

Estimated annual burden: Pursuant to statute (see 49 U.S.C. 30116, 30118(b) and (c), and 30119(d)(4)) and their own internal practices, manufacturers currently notify their dealers and distributors of all recalls that address safety defects or noncompliances in their products. Under the revised regulation, manufacturers conducting recalls will be required to (1) add information about the manufacturer's intended schedule for dealer notification to the manufacturer's notifications to NHTSA of defects and noncompliances that are already provided pursuant to 49 CFR part 573, and (2) include certain specified language in the notifications that they send to their dealers and distributors. In addition, vehicle manufacturers will now be required to maintain a list of its dealers and distributors that it notified for a period of 5 years. (Pursuant to 49 CFR 573.8(c), manufacturers of motor vehicle equipment are already subject to such a retention requirement.) Each manufacturer conducting a recall would only have to develop language for inclusion in its notifications to its dealers and distributors once, since the language will be the same in succeeding recalls. With respect to retention requirement, vehicle manufacturers already maintain lists of all of their dealers and distributors, and the dealers and distributors that are notified are likely to be identical or at least substantially similar for all recalls conducted by a manufacturer.

Based on the above, we estimate that the average time needed for a manufacturer to perform these activities will be no more than 2 hours per recall. Based on past experience, we estimate that there will be about 500 recalls per year. Accordingly, the manufacturer burden hours are estimated to be 1,000 per year (500 recalls × 2 hours).

In cases in which a manufacturer sells or arranges for the delivery of vehicles or items of equipment to or through independent distributors that subsequently sell or arrange for the delivery of the vehicles or equipment items to independent retail outlets, manufacturers will be required to include in the notification to such distributors language instructing them to provide copies of the notification to all entities further along the distribution chain within five working days of its receipt. Although the regulation does not directly impose any requirement on the distributors to comply with the manufacturer's instructions, we expect them to do so, so we have estimated the paperwork burdens associated with subsequent notifications by distributors. As a practical matter, this requirement would only affect equipment recalls, since vehicle manufacturers generally communicate directly with their dealers rather than through a distribution network. Therefore, our estimate considers only equipment recalls. There are approximately 50 such recalls each year. The only thing that these distributors would do (assuming they followed the manufacturer's instructions) would be to forward copies of the manufacturer's notification to entities further down the distribution chain. We estimate that identifying the applicable lower-tier entities, making copies, and sending out those copies would take about 5 hours per recall. Assuming that each recalling equipment manufacturer utilizes an average of three separate distributors (which is probably an over-estimate, since many equipment manufacturers do not use any independent distributors), the total number of burden hours potentially associated with this provision of the final rule is estimated to be 750 per year (50 recalls × 3 independent distributors × 5 hours).

Number of respondents: Every manufacturer of motor vehicles or replacement equipment is potentially affected by this rule. We estimate that there are 30,000 such manufacturers. However, on average, about 300 manufacturers actually conduct the approximately 500 safety recalls that are conducted each year.

Issued on: June 9, 2004.
Kenneth N. Weinstein,
Associate Administrator for Enforcement.

[FR Doc. 04-13583 Filed 6-15-04; 8:45 am]

BILLING CODE 4910-59-P